DEPARTMENT OF COMMERCE

International Trade Administration

[C-570-023]

Certain Uncoated Paper From the People's Republic of China: Notice of Correction to Preliminary Affirmative Countervailing Duty Determination

AGENCY: Enforcement and Compliance, International Trade Administration, Department of Commerce.

FOR FURTHER INFORMATION CONTACT: Patricia Tran or Joy Zhang, Office III, AD/CVD Operations, Enforcement and Compliance, International Trade Administration, U.S. Department of Commerce, 14th Street and Constitution Avenue NW., Washington, DC 20230; telephone: (202) 482-1503 and (202) 482-1168, respectively.

SUPPLEMENTARY INFORMATION: On June 29, 2015, the Department of Commerce (the Department) published the preliminary affirmative countervailing duty determination on certain uncoated paper from the People's Republic of China.¹ The Preliminary Determination contained inadvertent errors related to certain company names. Specifically, in the Preliminary Determination the Department should have indicated that the mandatory respondent, referred to in the collective as the Asia Symbol Companies, is comprised of the following firms: Asia Symbol (Guangdong) Paper Co., Ltd. (AS Guangdong), Asia Symbol (Shandong) Pulp & Paper Co., Ltd. (AS Shandong), Asia Symbol (Guangdong) Omya Minerals Co., Ltd. (AS Omya), and Greenpoint Global Trading (Macao Commercial Offshore) Limited (Greenpoint). Additionally, in the Preliminary Determination, the Department should have referred to UPM Changshu as UPM (China) Co. Ltd. (UPM).

¹ See Certain Uncoated Paper from the People's Republic of China: Preliminary Affirmative Countervailing Duty Determination and Alignment of Final Determination With Final Antidumping Duty Determination, 80 FR 36968 (June 29, 2015) (Preliminary Determination).

This correction to the Preliminary Determination is issued and published in accordance with section 703(b)(1) of the Tariff Act of 1930, as amended.

Paul Piquado,
Assistant Secretary for Enforcement and Compliance.

[FR Doc. 2015-16823 Filed 7-8-15; 8:45 am]

BILLING CODE 3510-DS-P